DEPARTMENT OF JUSTICE

[OMB Number 1105-0052]

Agency Information Collection Activities; Proposed eCollection eComments Requested; Extension of a Previously Approved Collection; Title: Claims Under the Radiation Exposure Compensation Act

AGENCY: Civil Division, Department of Justice.

ACTION: 60-Day notice.

SUMMARY: The Civil Division, Department of Justice (DOJ), will be submitting the following information collection request to the Office of Management and Budget (OMB) for review and approval in accordance with the Paperwork Reduction Act of 1995.

DATES: Comments are encouraged and will be accepted for 60 days until October 20, 2025.

FOR FURTHER INFORMATION CONTACT: If you have additional comments, especially on the estimated public burden or associated response time, suggestions, or need a copy of the proposed information collection instrument with instructions or additional information, please contact Jason C. Bougere, U.S. Department of Justice, P.O. Box 146, Ben Franklin Station, Washington, DC 20044-0146.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Information collection form for individuals applying for compensation under the Radiation Exposure Compensation Act.

Overview of This Information Collection

1. Type of Information Collection: Revision of a previously approved collection.

2. The Title of the Form/Collection: Claims Under the Radiation Exposure Compensation Act.

3. The agency form number, if any, and the applicable component of the Department sponsoring the collection: OMB #1105-0052 DOJ Component: Civil Division.

4. Affected public who will be asked or required to respond, as well as a brief abstract: [Affected Public: Primary:] Individuals or households.

5. Obligation to Respond: Voluntary but required to obtain a benefit.

6. Total Estimated Number of Respondents: Approximately 70,000.

7. Estimated Time per Respondent: 2.5 hours.

8. Frequency: Once.

9. Total Estimated Annual Time Burden—175,000 hours

10. Total Estimated Annual Other Costs Burden—$0 [This is captured in #7 of the 60 day notice as well as item 13 of the Supporting Statement A].

If additional information is required contact: Darwin Arceo, Department Clearance Officer, United States Department of Justice, Justice Management Division, Policy and Planning Staff, Two Constitution Square, 145 N Street NE, 4W-218, Washington, DC.

Dated: August 11, 2025.
Darwin Arceo,
Department Clearance Officer for PRA, U.S. Department of Justice.

[FR Doc. 2025-15925 Filed 8-19-25; 8:45 am]

BILLING CODE 4410-12-P